DEPARTMENT OF HEALTH AND HUMAN SERVICES

Agency for Healthcare Research and Quality

Supplemental Evidence and Data Request on Updating the Framework for AHRQ's National Healthcare Quality and Disparities Report (NHQDR)

AGENCY: Agency for Healthcare Research and Quality (AHRQ), HHS.

ACTION: Request for Supplemental Evidence and Data Submission.

SUMMARY: The Agency for Healthcare Research and Quality (AHRQ) is seeking scientific information submissions from the public. Scientific information is being solicited to inform our review on Updating the Framework for AHRQ's National Healthcare Quality and Disparities Report (NHQDR), which is currently being conducted by the AHRQ's Evidence-based Practice Centers (EPC) Program. Access to published and unpublished pertinent scientific information will improve the quality of this review.

DATES: Submission Deadline on or before November 17, 2023.

ADDRESSES:

Email submissions: epc@ahrq.hhs.gov.

Print submissions:

Mailing Address: Center for Evidence and Practice Improvement, Agency for Healthcare Research and Quality, ATTN: EPC SEADs Coordinator, 5600 Fishers Lane, Mail Stop 06E53A, Rockville, MD 20857.

Shipping Address (FedEx, UPS, etc.): Center for Evidence and Practice Improvement, Agency for Healthcare Research and Quality, ATTN: EPC SEADs Coordinator, 5600 Fishers Lane, Mail Stop 06E77D, Rockville, MD 20857.

FOR FURTHER INFORMATION CONTACT: Kelly Carper, Telephone: 301-427-1656 or Email: epc@ahrq.hhs.gov.

SUPPLEMENTARY INFORMATION: The Agency for Healthcare Research and Quality has commissioned the Evidence-based Practice Centers (EPC) Program to complete a review of the evidence for Updating the Framework for AHRQ's National Healthcare Quality and Disparities Report (NHQDR). AHRQ is conducting this review pursuant to Section 902 of the Public Health Service Act, 42 U.S.C. 299a.

The EPC Program is dedicated to identifying as many studies as possible that are relevant to the questions for each of its reviews. In order to do so, we are supplementing the usual manual and electronic database searches of the literature by requesting information from the public (e.g., details of studies conducted). We are looking for studies that report on Updating the Framework for AHRQ's National Healthcare Quality and Disparities Report (NHQDR). The entire research protocol is available online at: https://effectivehealthcare.ahrq.gov/products/updating-framework/protocol.

This is to notify the public that the EPC Program would find the following information on Updating the Framework for AHRQ's National Healthcare Quality and Disparities Report (NHQDR) helpful:

A list of completed studies that your organization has sponsored for this topic. In the list, please indicate whether results are available on ClinicalTrials.gov along with the ClinicalTrials.gov trial number.

For completed studies that do not have results on ClinicalTrials.gov, a summary, including the following elements, if relevant: study number, study period, design, methodology, indication and diagnosis, proper use instructions, inclusion and exclusion criteria, primary and secondary outcomes, baseline characteristics, number of patients screened/eligible/enrolled/lost to follow-up/withdrawn/analyzed, effectiveness/efficacy, and safety results.

A list of ongoing studies that your organization has sponsored for this topic. In the list, please provide the ClinicalTrials.gov trial number or, if the trial is not registered, the protocol for the study including, if relevant, a study number, the study period, design, methodology, indication and diagnosis, proper use instructions, inclusion and exclusion criteria, and primary and secondary outcomes.

Description of whether the above studies constitute ALL Phase II and above clinical trials sponsored by your organization for this topic and an index outlining the relevant information in each submitted file.

Your contribution is very beneficial to the Program. Materials submitted must be publicly available or able to be made public. Materials that are considered confidential; marketing materials; study types not included in the review; or information on topics not included in the review cannot be used by the EPC Program. This is a voluntary request for information, and all costs for complying with this request must be borne by the submitter.

The draft of this review will be posted on AHRQ's EPC Program website and available for public comment for a period of 4 weeks. If you would like to be notified when the draft is posted, please sign up for the email list at: https://www.effectivehealthcare.ahrq.gov/email-updates.

The review will answer the following questions. This information is provided as background. AHRQ is not requesting that the public provide answers to these questions.

Guiding Questions (GQ)

GQ1. Which frameworks have been developed or are used for quality of care?

• What settings, populations, and intended use were the frameworks developed for?

• How are the framework domains defined?

• In what context have these frameworks been used?

• How do these frameworks intersect with levers and tools available to federal and state governments?

• How are the frameworks and domains similar or different from the 2010 NASEM framework?

GQ2. How should the 2010 NASEM framework and its domains be updated?

• How would existing AHRQ NHQDR measures be reorganized in the updated framework and domains?

• Are there available measures for new framework domains?

○ Describe measures in terms of their definition, population, years available, geographic representation, data sources, and supporting evidence.

Criteria for Inclusion/Exclusion of Studies in the Review
Domain | Inclusion | Exclusion
Population | • Publications that address quality of care indicators, criteria, or benchmarks. We will accept the authors' definition of quality of care. Quality indicators may include care processes-related measures (e.g., follow-up post discharge, continuity of care, medication errors), heath services utilization measures (e.g., hospital readmission, emergency department visit), care satisfaction (e.g., patient satisfaction, care needs met, trust in care provider), or health outcomes (e.g., mortality, physical functional status, mental functioning, quality of life) used as quality indicators. Publications that do not address quality of care in detail but include quality of care and health equity in a framework will also be eligible. Care disparities may either address differences in provided health services, focus on care services or health outcomes of priority populations | • Publications not addressing quality of care and publications not mentioning quality of care nor health equity as a central feature of a framework.
Concept | • Publications that include a figure or detailed description of a framework of quality of care or care disparities; frameworks may use the format of a logic model, analytic framework, conceptual model, or other conceptualizations of quality of care | • Publications citing existing frameworks without further conceptual contribution to the framework and publications describing only the need of quality of care measures.
Context | • Healthcare, specifically healthcare delivery organizations | • Studies in contexts outside of healthcare or not specific to healthcare.
Other limiters | • Reports published in English-language, journal manuscripts, trial records, and gray literature in the public domain from the outlined sources | • Data reported in abbreviated format (e.g., conference abstracts) will be excluded; studies not published in English
|  | • Systematic reviews will be retained for reference mining.

Dated: October 12, 2023.
Marquita Cullom,
Associate Director.

[FR Doc. 2023-22915 Filed 10-17-23; 8:45 am]

BILLING CODE 4160-90-P